ENVIRONMENTAL PROTECTION AGENCY

[FRL-10013-97-Region 4]

Public Water System Supervision Program Revision for the Commonwealth of Kentucky

AGENCY: Environmental Protection Agency (EPA).

ACTION: Notice of intended approval.

SUMMARY: Notice is hereby given that the Commonwealth of Kentucky is revising its approved Public Water System Supervision Program. Kentucky has adopted drinking water regulations for the Interim Enhanced Surface Water Treatment Rule, Lead and Copper Rule Minor Revisions, Filter Backwash Recycling Rule, and Revised Total Coliform Rule. The Environmental Protection Agency (EPA) has determined that Kentucky's regulations are no less stringent than these federal rules and the revisions otherwise meet applicable Safe Drinking Water Act requirements. Therefore, the EPA intends to approve these revisions to the Commonwealth of Kentucky's Public Water System Supervision Program.

DATES: Any interested person may request a public hearing. A request for a public hearing must be submitted by September 28, 2020, to the Regional Administrator at the following address: U.S. Environmental Protection Agency, Region 4, Atlanta Federal Center, 61 Forsyth Street SW, Atlanta, Georgia 30303. The Regional Administrator may deny frivolous or insubstantial requests for a hearing. However, if a substantial request for a public hearing is made by September 28, 2020, a public hearing will be held. If no timely and appropriate request for a hearing is received and the Regional Administrator does not elect to hold a hearing on her own motion, this determination shall become final and effective on September 28, 2020. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: Documents relating to this determination are available for inspection between the hours of 9:00 a.m. and 4:00 p.m., Monday through Friday (excluding legal holidays), at the following location: The main lobby of the Kentucky Energy and Environment Cabinet (KEEC), 300 Sower Boulevard, Frankfort, Kentucky 40601. Due to COVID-19, those intending to view documents at this location should contact Ms. Alicia Jacobs, KEEC, by telephone at (502) 782-6987 at least 30 minutes prior to arriving at KEEC to coordinate viewing. Documents relating to the determination are also available online at https://eec.ky.gov/Environmental-Protection/Water/Pages/Water-Public-Notices-and-Hearings.aspx for inspection.

FOR FURTHER INFORMATION CONTACT: Dale Froneberger, EPA Region 4, Safe Drinking Water Branch, by mail at the Atlanta street address given above, by telephone at (404) 562-9446, or by email at froneberger.dale@epa.gov.

SUPPLEMENTARY INFORMATION: The Commonwealth of Kentucky has submitted requests that the EPA approve revisions to the Commonwealth's Safe Drinking Water Act Public Water System Supervision Program to include the authority to implement and enforce the Interim Enhanced Surface Water Treatment Rule, Lead and Copper Rule Minor Revisions, Filter Backwash Recycling Rule, and Revised Total Coliform Rule. For the requests to be approved, the EPA must find the commonwealth regulations codified at Title 401 KAR chapter 8 to be no less stringent than the federal rules codified at 40 CFR part 141. The EPA reviewed Kentucky's applications using the federal statutory provisions (Section 1413 of the Safe Drinking Water Act), federal regulations (at 40 CFR parts 141 and 142), commonwealth regulations, commonwealth policies and procedures for implementing the rules, regulatory crosswalks, and the EPA regulatory guidance to determine whether the requests for revision are approvable. The EPA determined that the Kentucky regulations are no less stringent than the corresponding federal rules and the revisions otherwise meet applicable Safe Drinking Water Act requirements. Therefore, the EPA intends to approve these revisions. If the EPA does not receive a timely and appropriate request for a hearing and the Regional Administrator does not elect to hold a hearing on her own motion, this approval shall become final and effective on September 28, 2020.

Authority: Section 1413 of the Safe Drinking Water Act, as amended (1996), and 40 CFR part 142.

Dated: August 21, 2020.
Mary Walker,
Regional Administrator, Region 4.

[FR Doc. 2020-18935 Filed 8-27-20; 8:45 am]

BILLING CODE 6560-50-P